DEPARTMENT OF HEALTH AND HUMAN SERVICES

Health Resources and Services Administration

Agency Information Collection Activities: Proposed Collection: Public Comment Request Information Collection Request Title: Federal Tort Claims Act Program Deeming Applications for Health Centers, OMB No. 0906-0035 Extension

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this Information Collection Request must be received no later than April 6, 2021.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Federal Tort Claims Act Program Deeming Applications for Health Centers, OMB No. 0906-0035—Extension.

Abstract: Section 224(g)-(n) of the Public Health Service (PHS) Act (42 U.S.C. 233(g)-(n)), as amended, authorizes the “deeming” of entities receiving funds under section 330 of the PHS Act as PHS employees for the purpose of receiving Federal Tort Claims Act (FTCA) coverage for the performance of medical, surgical, dental, and related functions for their officers, board members, employees, and certain contractors. The Health Center Program is administered by HRSA's Bureau of Primary Health Care. Health centers submit deeming applications annually to HRSA in the prescribed form and manner in order to obtain deemed PHS employee status, with the associated FTCA coverage.

Deemed PHS employment provides the covered individual with immunity from lawsuits and related civil actions resulting from the performance of medical, surgical, dental, and related functions within the scope of deemed employment.

The FTCA Program utilizes a web based application system, the Electronic Handbooks. The application includes the following: Contact information; Section 1: Review of Risk Management Systems; Section 2: Quality Improvement/Quality Assurance Attestations; Section 3: Credentialing and Privileging; Section 4: Claims Management; and Section 5: Additional Information, Certification, and Signatures.

HRSA is proposing no changes to the Application for Health Center Program Deemed Public Health Service Employment Status information collection request to be used for health center deeming applications for Calendar Year 2022 and thereafter.

Need and Proposed Use of the Information: Deeming applications must address certain specified criteria required by law in order for deeming determinations to be issued, and FTCA application forms are critical to HRSA's deeming determination process. The application submissions provide HRSA with the information essential for application evaluation and a deeming determination for the purposes of FTCA coverage. The application information is also used to determine whether a site visit is appropriate to assess issues relating to the health center's quality of care and to determine technical assistance needs.

Likely Respondents: Respondents include Health Center Program funds recipients seeking deemed PHS employee status for purposes of FTCA coverage.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Application for Health Center Program Deemed Public Health Service Employment Status (Initial) | 35 | 1 | 35 | 2.5 | 87.5
Application for Health Center Program Deemed Public Health Service Employment Status (Redeeming) | 1,125 | 1 | 1,125 | 2.5 | 2,812.5
Total | 1,160 |  | 1,160 |  | 2,900

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2021-02393 Filed 2-4-21; 8:45 am]

BILLING CODE 4165-15-P